CORPORATION FOR NATIONAL AND COMMUNITY SERVICE

Revision of Currently Approved Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. This form is available in alternate formats. Individuals who use a telecommunications device for the deaf (TTY/TDD) may call (202) 606-5256 between the hours of 9 a.m. and 4:30 p.m. Eastern time, Monday through Friday.

Currently, the Corporation is soliciting comments concerning the revision of its AmeriCorps*VISTA Alumni Locator Card (OMB Control Number 3045-0048, with an expiration date of 08/31/2000). Copies of the information collection request can be obtained by contacting the office listed below in the ADDRESSES section of this notice.

DATES: Written comments must be submitted to the office listed in the ADDRESSES section by September 18, 2000.

ADDRESSES: Send comments to the Corporation for National and Community Service, AmeriCorps*VISTA, Attn: Michael Wagner, 1201 New York Avenue, N.W., Washington, D.C., 20525.

FOR FURTHER INFORMATION CONTACT: Michael Wagner, (202) 606-5000, ext. 316, or e-mail to mwagner@cns.gov.

SUPPLEMENTARY INFORMATION:

Comment Request

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including the use of appropriate automated, electronic, mechanical, or other technological collection techniques or other forms of information technology, e.g., permitting electronic submissions of responses.

Background

The Corporation proposes to send out AmeriCorps*VISTA Alumni Locator Cards to former AmeriCorps*VISTA members' home addresses requesting that they complete the card and return it to the AmeriCorps*VISTA Program Office. The card will be used by Corporation personnel and other organizations (only with the explicit written permission of the respondent). The purpose of the card is to enhance communications between the Corporation and former AmeriCorps*VISTA members to provide them with information on Corporation activities, and to seek their assistance in volunteer recruitment activities.

Current Action

The Corporation proposes to revise the AmeriCorps*VISTA Alumni Locator Card by deleting unused information from the existing version of the card, such as removing one of the AmeriCorps*VISTA project site fields and collecting the following data from the former member:

• The exact dates of service from the person filling out the AmeriCorps*VISTA Alumni Locator Card.

• The name of the VISTA project.

• The geographical location of the project (city and state).

The Corporation also proposes to revise the AmeriCorps*VISTA Alumni Locator Card by requesting the “e-mail address” of former members to provide a more inexpensive and faster way to communicate and share information.

The Corporation also proposes to revise the AmeriCorps*VISTA Alumni Locator Card by seeking consent to release contact information, including a former member's name, address (including e-mail), and telephone number to the following groups:

1. Alumni Organizations.

2. Educational organizations that can accept the AmeriCorps education award.

3. Service organizations.

Further, the Corporation proposes to revise the AmeriCorps*VISTA Alumni Locator Card by asking former members to identify his or her involvement with the Corporation or community.

Type of Review: Revision of a currently approved collection.

Agency: Corporation for National and Community Service.

Title: AmeriCorps*VISTA Alumni Locator Card. (Previously named the AmeriCorps*VISTA Locator Card.)

OMB Number: 3045-0048.

Agency Number: None.

Affected Public: Individuals and households.

Total Respondents: 6,000.

Frequency: Continuous.

Average Time Per Response: 2 minutes.

Estimated Total Burden Hours: 200 hours.

Total Burden Cost (capital/startup): None.

Total Burden Cost (operating/maintenance): None.

Comments submitted in response to this notice will be summarized and/or included in the request for Office of Management and Budget approval of the information collection request; they will also become a matter of public record.

Dated: July 16, 2000.
Matt B. Dunne,
Director, AmeriCorps*VISTA.

[FR Doc. 00-18346 Filed 7-19-00; 8:45 am]

BILLING CODE 6050-28-U